DEPARTMENT OF THE INTERIOR

Fish and Wildlife Service

Recovery Plan for Five Plants From Monterey County, CA

AGENCY: U.S. Fish and Wildlife Service, Interior.

ACTION: Notice of document availability.

SUMMARY: The U.S. Fish and Wildlife Service (“we”) announces the availability of the final Recovery Plan for Five Plants from Monterey County, California. This recovery plan includes the following species: Astragalus tener var. titi (coastal dunes milk-vetch), Piperia yadonii (Yadon's piperia), Potentilla hickmanii (Hickman's potentilla), Trifolium trichocalyx (Monterey clover), and Cupressus goveniana ssp. goveniana (Gowen cypress). Astragalus tener var. titi, Piperia yadonii, Potentilla hickmanii, and Trifolium trichocalyx are listed as endangered. Cupressus goveniana ssp. goveniana is listed as a threatened species. These plant species are found primarily along the coast of northern Monterey County, California. Potentilla hickmanii also occurs in San Mateo County and has occurred historically in Sonoma County. Astragalus tener var. titi has occurred historically in Los Angeles and San Diego Counties, California. This recovery plan includes specific criteria and actions to be taken in order to effectively recover the species.

ADDRESSES: Copies of this recovery plan are available by request from the U.S. Fish and Wildlife Service, Ventura Fish and Wildlife Office, 2493 Portola Road, Suite B, Ventura, California 93003 (telephone: 805/644-1766). An electronic copy of the recovery plan is also available at: http://www.endangered.fws.gov/recovery/index.html#plans.

FOR FURTHER INFORMATION CONTACT: Diane Steeck, Fish and Wildlife Biologist, at the above Ventura address.

SUPPLEMENTARY INFORMATION:

Background

Restoring endangered or threatened animals and plants to the point where they are again secure, self-sustaining members of their ecosystems is a primary goal of our endangered species program. The Endangered Species Act, as amended (16 U.S.C. 1531 et seq.) (Act), requires the development of recovery plans for listed species unless such a plan would not promote the conservation of a particular species. Recovery plans help guide the recovery effort by describing actions considered necessary for the conservation of the species, establishing criteria for the recovery levels for downlisting or delisting them, and estimating time and cost for implementing the recovery measures needed.

Section 4(f) of the Act requires that public notice and an opportunity for public review and comment be provided during recovery plan development. In fulfillment of this requirement, the Draft Recovery Plan for Five Plants from Monterey County, California, was available for public comment from May 13, 2002, through July 12, 2002 (67 FR 32003). Information presented during the public comment period has been considered in the preparation of this final recovery plan, and is summarized in the appendix to the recovery plan. We will forward substantive comments regarding recovery plan implementation to appropriate Federal or other entities so that they can take these comments into account during the course of implementing recovery actions.

The five plants addressed in this final recovery plan are threatened by one or more of the following: alteration, destruction, and fragmentation of habitat resulting from urban and golf course development; recreational activities; competition with nonnative plant species; herbivory from native or nonnative species; demographic stochasticity; modifications in hydrology; loss of individuals from roadside maintenance activities; and disruption of natural fire cycles due to fire suppression associated with increasing residential development around and within occupied habitat.

The objective of this plan is to provide a framework for the recovery of these species so that protection by the Act is no longer necessary. Actions necessary to accomplish this objective include: (1) Permanent protection of habitat presently occupied by the species and the surrounding ecosystem on which they depend, with long-term commitments to conserving the species; (2) in protected habitat, successful control of invasive nonnative plants and successful management of other problems through at least 12 years; (3) development of management strategies that include results from research on the life histories of the taxa, and results from monitoring the species' responses to vegetation management; (4) surveys for additional populations, and successful reintroductions or establishment of populations for Astragalus tener var. titi, Potentilla hickmanii, and Trifolium trichocalyx, with populations of all five species assured of long-term survival; (5) establishment of seed banks; and (6) existing populations of Cupressus goveniana ssp. goveniana are assured of long-term survival, including successful recruitment and reproduction. Once these criteria have been met, Cupressus goveniana ssp. goveniana may be considered for delisting and Astragalus tener var. titi, Piperia yadonii, Potentilla hickmanii, and Trifolium trichocalyx may be considered for downlisting.

Authority: The authority for this action is section 4(f) of the Endangered Species Act, 16 U.S.C. 1533(f).

Dated: August 19, 2004.
Steve Thompson,
Manager, California/Nevada Operations Office, Region 1, U.S. Fish and Wildlife Service.

[FR Doc. 04-27810 Filed 12-17-04; 8:45 am]

BILLING CODE 4310-55-P